POSTAL SERVICE

Sunshine Act Meeting; Notice

Times and Dates: 12:30 p.m., Monday, June 4, 2001; 8:30 a.m., Tuesday, June 5, 2001.

Place: Washington, DC, at U.S. Postal Service Headquarters, 475 L'Enfant Plaza, SW, in the Benjamin Franklin Room.

Status: June 4 (Closed); June 5 (Open).

Matters To Be Considered:

Monday, June 4—12:30 p.m. (Closed)

1. Financial Performance.

2. Rate Case Briefing.

3. Facilities Update.

4. Leveraging Assets.

5. Strategic Planning.

6. Compensation Issues.

7. Personnel Matters.

Tuesday, June 5—8:30 a.m. (Open)

1. Minutes of the Previous Meetings, May 1, May 7-8, and May 15, 2001.

2. Remarks of the Postmaster General/Chief Executive Officer.

3. Quarterly Report on Financial Results.

4. Capital Investments.

a. Surface Air Support System.

b. Teterboro, New Jersey, Processing and Distribution Center.

5. Tentative Agenda for the July 9-10, 2001, meeting in Evansville, Indiana.

CONTACT PERSON FOR MORE INFORMATION: David G. Hunter, Secretary of the Board, U.S. Postal Service, 475 L'Enfant Plaza, SW., Washington, DC 20260-1000. Telephone (202) 268-4800.

David G. Hunter,
Secretary.

[FR Doc. 01-13253 Filed 5-22-01; 2:50 pm]

BILLING CODE 7710-12-M